DEPARTMENT OF THE TREASURY

Agency Information Collection Activities; Submission for OMB Review; Comment Request; CDFI Program and NACA Program Application

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before November 14, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Community Development Financial Institutions Fund (CDFIF)

Title: CDFI Program and NACA Program Application.

OMB Control Number: 1559-0021.

Type of Review: Revision of a currently approved collection.

Description: Pursuant to the Riegle Community Development Banking and Financial Institutions Act of 1994, as amended (the Act, 12 U.S.C. 4701 et seq.), the Community Development Financial Institutions (CDFI) Program provides financial and technical assistance to selected applicants and Community Development Financial Institutions (CDFIs) in order to enhance their ability to make loans and investments and provide services for the benefit of designated Investment Areas and Targeted Populations.

The application questions for the CDFI Fund's Financial Assistance (FA) and Technical Assistance (TA) programs have been modified to reflect public comments received through the request for public comment as required the Paperwork Reduction Act (PRA). The revised FA application includes the Base-FA application as well as the following applications for awards that are provided as supplemental to the Base-FA award: Persistent Poverty County Financial Assistance (PPC-FA), Healthy Food Financing Initiative-Financial Assistance (HFFI-FA), and Disability Funds-Financial Assistance (DF-FA). The supplemental applications are only completed if the applicant is requesting those specific funds.

The information collected will be used to select awardees, based on a merit-based selection process. The requested information is required by the CDFI Program regulations (12 CFR part 1805) and respective Notice of Funds Availabilities.

Form: None.

Affected Public: Businesses or other for-profits, Not-for-profit institutions.

Estimated Number of Respondents: 500.

Frequency of Response: On occasion.

Estimated Total Number of Annual Responses: 500.

Estimated Time per Response: 100 hours.

Estimated Total Annual Burden Hours: 50,000.

Authority: 44 U.S.C. 3501 et seq.

Dated: October 8, 2019.
Spencer W. Clark,
Treasury PRA Clearance Officer.

[FR Doc. 2019-22379 Filed 10-11-19; 8:45 am]

BILLING CODE 4810-70-P